COMMITTEE FOR PURCHASE FROM PEOPLE WHO ARE BLIND OR SEVERELY DISABLED

Procurement List Additions and Deletions

AGENCY: Committee for Purchase From People Who Are Blind or Severely Disabled.

ACTION: Additions to and Deletions from the Procurement List.

SUMMARY: This action adds products to the Procurement List that will be furnished by nonprofit agencies employing persons who are blind or have other severe disabilities, and deletes a product and services from the Procurement List previously furnished by such agencies.

DATES: Effective Date: 1/6/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 8/9/2013 (78 FR 48656-48657), and 9/6/2013 (78 FR 54871), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

PRODUCTS:

NSN: 7510-01-462-1383—Binder, Loose-leaf, View Framed, Navy Blue, 1/2″.

NSN: 7510-01-462-1385—Binder, Loose-leaf, Frame View, Navy Blue, 1-1/2″.

NSN: 7510-01-462-1386—Binder, Loose-leaf, View Framed, White, 1″.

NPA: South Texas Lighthouse for the Blind, Corpus Christi, TX.

Contracting Activity: General Services Administration, New York, NY.

COVERAGE: A-List for the Total Government Requirement as aggregated by the General Services Administration.

NSN: MR 376—Resealable Bags, Holiday, 6.5″ × 5.875″.

NSN: MR 379—Storage Containers, Holiday, 12 oz. or 16 oz., 6PK.

NSN: MR 380—Set, Baking Cups and Picks, Holiday, 24PC.

NPA: Winston-Salem Industries for the Blind, Inc., Winston-Salem, NC.

Contracting Activity: Defense Commissary Agency, Fort Lee, VA.

COVERAGE: C-List for the requirements of military commissaries and exchanges as aggregated by the Defense Commissary Agency.

Deletions

On 10/25/2013 (78 FR 63967-63968) and 11/1/2013 (78 FR 65618), the Committee for Purchase From People Who Are Blind or Severely Disabled published notices of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

PRODUCT:

NSN: 8460-01-113-7576—Envelope Case, Map and Photograph.

NPA: No NPA currently authorized.

Contracting Activity: Defense Logistics Agency Troop Support, Philadelphia, PA.

SERVICES:

Service Type/Location: Janitorial/Custodial Service, Naval & Marine Corps Reserve Center, Spokane, WA.

NPA: Career Connections, Spokane, WA (Deleted).

Contracting Activity: DEPT OF THE NAVY, U.S. FLEET FORCES COMMAND, NORFOLK, VA.

Service Type/Location: Food Service Attendant Service, Oregon Air National Guard, Camp Rilea National Guard Training Site, Building 7028, Warrenton, OR.

NPA: Clatsop County Developmental Training Center Association, Warrenton, OR (Deleted).

Contracting Activity: DEPT OF THE AIR FORCE, FA7014 AFDW PK, ANDREWS AIR FORCE BASE, MD.

Service Type/Location: Grounds Maintenance Service, U.S. Army Reserve Center: San Jose, San Jose, CA.

NPA: Social Vocational Services, Inc., San Jose, CA (Deleted).

Contracting Activity: DEPT OF THE ARMY, W40M NATL REGION CONTRACT OFC, FORT BELVOIR, VA.

Barry S. Lineback,
Director, Business Operations.

[FR Doc. 2013-29138 Filed 12-5-13; 8:45 am]

BILLING CODE 6353-01-P